DEPARTMENT OF HEALTH AND HUMAN SERVICES

National Institutes of Health

National Cancer Institute; Amended Notice of Meeting

Notice is hereby given of a change in the meeting of the Subcommittee I—Career Development, September 30, 2008, 8 a.m. to October 1, 2008, 5 p.m., Crowne Plaza National Airport, 1480 Crystal Drive, Arlington, VA, 22202 which was published in the Federal Register on August 8, 2008, 73 FR 46308.

This meeting is amended to change the meeting date to September 30, 2008. The meeting is closed to the public.

Dated: August 20, 2008.
Jennifer Spaeth,
Director, Office of Federal Advisory Committee Policy.

[FR Doc. E8-19805 Filed 8-26-08; 8:45 am]

BILLING CODE 4140-01-P